COUNCIL ON ENVIRONMENTAL QUALITY

Call for Innovative National Environmental Policy Act (NEPA) Pilot Project Proposals

AGENCY: Council On Environmental Quality.

ACTION: Notice of Availability, Call for Innovative National Environmental Policy Act (NEPA) Pilot Project Proposals.

SUMMARY: The Chair of the Council on Environmental Quality (CEQ) invites the public and federal agencies to nominate innovative pilot projects that accomplish the NEPA goals of transparency and informed decisionmaking in a more timely and effective manner. Nominations will be accepted via online submission until June 15, 2011. CEQ will track and publicize the progress of selected pilot projects as part of its NEPA Pilot Program, to identify and promote more efficient ways to do effective environmental reviews that can be replicated across the Federal Government. The NEPA Pilot Project Program is part of CEQ's broad effort to modernize and reinvigorate federal agency implementation of NEPA through innovation, public engagement, and transparency. The NEPA Pilot Program will also facilitate a review under section 6 of Executive Order 13563, “Improving Regulation and Regulatory Review,” of provisions of CEQ's NEPA Regulations that may be outmoded, ineffective, insufficient, or excessively burdensome. 76 FR 3821, Jan. 21, 2011; 40 CFR 1500-1508.

DATES: The Call for Innovative National Environmental Policy Act (NEPA) Pilot Project Proposals is available as of March 17, 2011. Nominations may be submitted online until June 15, 2011, and will not be considered after that date.

ADDRESSES: The Call for Innovative National Environmental Policy Act (NEPA) Pilot Project Proposals and online nomination submission form is available at http://whitehouse.gov/administration/eop/ceq/initiatives/nepa/nepa-pilot-project.

FOR FURTHER INFORMATION CONTACT: Katie Scharf, Deputy General Counsel, Council on Environmental Quality, 202-456-2464.

SUPPLEMENTARY INFORMATION: On March 17, 2011, the Council on Environmental Quality (CEQ) issued a Call for Innovative National Environmental Policy Act (NEPA) Pilot Project Proposals, inviting the public and federal agencies, to nominate innovative pilot projects that accomplish the NEPA goals of transparency and informed decisionmaking in a more timely and effective manner. Nominations may be submitted online at http://whitehouse.gov/administration/eop/ceq/initiatives/nepa/nepa-pilot-project. Nominations will be accepted until June 15, 2011, and will be publicly posted on the CEQ Web site, http://www.whitehouse.gov/ceq. CEQ will not consider nominations submitted after June 15, 2011.

In consultation with a panel of agency NEPA experts, CEQ will select up to five (5) nominated pilot projects for further study and trial implementation, based on their potential to: (1) Reduce the costs and/or time needed to complete the NEPA process; (2) ensure environmental protection; (3) improve the quality and transparency of Federal agency decision-making; and (4) yield replicable best practices or procedural innovations that can be replicated by other agencies or applied to other Federal actions or programs so as to improve NEPA implementation beyond a specific project. CEQ will coordinate with relevant agencies to track project implementation for the purpose of evaluating and publicizing the efficiencies realized. These outcomes will be published on the CEQ Web site and on the NEPA Web site, nepa.gov. Where appropriate, CEQ will advocate that agencies incorporate these best practices into new or revised NEPA procedures. Accordingly, the NEPA Pilot Program will facilitate a review under section 6 of Executive Order 13563, “Improving Regulation and Regulatory Review,” of provisions of CEQ's NEPA Regulations that may be outmoded, ineffective, insufficient, or excessively burdensome. 76 FR 3821, Jan. 21, 2011; 40 CFR 1500-1508.

(Authority: 42 U.S.C. 4342, 4344)

Dated: March 17, 2011.
Nancy H. Sutley,
Chair.

[FR Doc. 2011-6760 Filed 3-22-11; 8:45 am]

BILLING CODE 3125-W0-P